SOCIAL SECURITY ADMINISTRATION

[Docket No. SSA 2016-0042]

Privacy Act of 1974; Matching Program

AGENCY: Social Security Administration (SSA).

ACTION: Notice of a New Matching Program.

SUMMARY: In accordance with the provisions of the Privacy Act, as amended, this notice announces a new computer matching program that we are currently conducting with the States, including tribal agencies and United States (U.S.) territories.

DATES: The deadline to submit comments on the proposed matching program is 30 days from the date of publication of this notice. The matching program will be effective on July 1, 2017 and will expire on December 31, 2018.

ADDRESSES: Interested parties may comment on this notice by either telefaxing to (410) 966-0869, writing to Mary Ann Zimmerman, Acting Executive Director, Office of Privacy and Disclosure, Office of the General Counsel, Social Security Administration, 617 Altmeyer Building, 6401 Security Boulevard, Baltimore, MD 21235-6401, or emailing at Mary.Ann.Zimmerman@ssa.gov. All comments received will be available for public inspection at this address.

FOR FURTHER INFORMATION CONTACT: Interested parties may submit general questions about the matching program to Mary Ann Zimmerman, Acting Executive Director, Office of Privacy and Disclosure, Office of the General Counsel, by any of the means shown above.

SUPPLEMENTARY INFORMATION: The Computer Matching and Privacy Protection Act of 1988 (Public Law (Pub. L.) 100-503), amended the Privacy Act (5 U.S.C. 552a) by describing the conditions under which computer matching involving the Federal government could be performed and adding certain protections for persons applying for, and receiving, Federal benefits. Section 7201 of the Omnibus Budget Reconciliation Act of 1990 (Pub. L. 101-508) further amended the Privacy Act regarding protections for such persons.

The Privacy Act, as amended, regulates the use of computer matching by Federal agencies when records in a system of records are matched with other Federal, State, or local government records. It requires Federal agencies involved in computer matching programs to:

(1) Negotiate written agreements with the other agency or agencies participating in the matching programs;

(2) Obtain approval of the matching agreement by the Data Integrity Boards of the participating Federal agencies;

(3) Publish notice of the computer matching program in the Federal Register;

(4) Furnish detailed reports about matching programs to Congress and OMB;

(5) Notify applicants and beneficiaries that their records are subject to matching; and

(6) Verify match findings before reducing, suspending, terminating, or denying a person's benefits or payments.

We have taken action to ensure that all of our computer matching programs comply with the requirements of the Privacy Act, as amended.

Mary Ann Zimmerman,
Acting Executive Director, Office of Privacy and Disclosure, Office of the General Counsel.

Participating Agencies: SSA and the States, tribal agencies, and U.S. territories

Authority for Conducting the Matching Program: The legal authority to disclose data and the States' authority to collect, maintain, and use data protected under our systems of records (SOR) for specified purposes is:

• Sections 453, 1106(b), and 1137 of the Social Security Act (Act) (42 U.S.C. 653, 1306(b), and 1320b-7) (income and eligibility verification data);

• 26 U.S.C. 6103(l)(7) and (8) (tax return data);

• Section 202(x)(3)(B)(iv) of the Act (42 U.S.C. 402(x)(3)(B)(iv)) and Section 1611(e)(1)(I)(iii) of the Act (42 U.S.C. 1382(e)(1)(I)(iii)) (prisoner data);

• Section 205(r)(3) of the Act (42 U.S.C. 405(r)(3)) and the Intelligence Reform and Terrorism Prevention Act of 2004, Public Law 108-458, 7213(a)(2) (death data);

• Sections 402, 412, 421, and 435 of Public Law 104-193 (8 U.S.C. 1612, 1622, 1631, and 1645) (quarters of coverage data);

• Children's Health Insurance Program Reauthorization Act of 2009 (CHIPRA), Public Law 111-3 (citizenship data); and

• Routine use exception to the Privacy Act, 5 U.S.C. 552a(b)(3) (data necessary to administer other programs compatible with our programs).

This Agreement further carries out section 1106(a) of the Act (42 U.S.C. 1306), the regulations promulgated pursuant to that section (20 CFR part 401), the Privacy Act of 1974 (5 U.S.C. 552a), as amended by the Computer Matching and Privacy Protection Act of 1988 (CMPPA), related Office of Management and Budget (OMB) guidelines, the Federal Information Security Management Act of 2002 (44 U.S.C. 3541, et seq.), as amended by the Federal Information Security Modernization Act of 2014 (Pub. L. 113-283), and related National Institute of Standards and Technology guidelines, which provide the requirements that States must follow with regard to use, treatment, and safeguarding of data.

Purpose: The purpose of this matching program is to set forth the terms and conditions governing disclosures of records, information, or data (collectively referred to herein as “data”) made by us to various State agencies and departments (State Agencies), tribal agencies, and U.S. territories that administer federally funded benefit programs, including those under various provisions of the Act, such as section 1137 (42 U.S.C. 1320b-7), as well as the state-funded state supplementary payment programs under Title XVI of the Act. SSA provides electronic data to the States, tribal agencies, and U.S. territories for use in determining entitlement and eligibility for federally funded benefit programs—such as Medicare and Medicaid, subsidized housing, Supplemental Nutrition Assistance Program, and Temporary Assistance to Needy Families—as well as other federally funded, state administered benefit programs. To receive SSA data to administer federally funded, state-administered benefit programs, the State or State agency, tribal agency, or U.S. territory must sign a Computer Matching Agreement and an Information Exchange Agreement. The terms and conditions of this Agreement ensure that we make such disclosures of data, and the States, tribal agencies, and U.S. territories use such disclosed data, in accordance with the requirements of the Privacy Act of 1974, as amended by the CMPPA, 5 U.S.C. 552a.

Under section 1137 of the Act, States are required to use an income and eligibility verification system to administer specified federally funded benefit programs, including the state-funded state supplementary payment programs under Title XVI of the Act. To assist the States, tribal agencies, and U.S. territories in determining entitlement to and eligibility for benefits under those programs, as well as other federally funded benefit programs, we disclose certain data about applicants (and in limited circumstances, members of an applicant's household), for state benefits from our Privacy Act SORs and verify the Social Security numbers (SSN) of the applicants.

Individual agreements with the States, tribal agencies, or U.S. territories describe the information we will disclose and the conditions under which we agree to disclose the information.

Categories of Individuals: Individuals whose information is involved in the matching program are those who apply for federally funded, state-administered benefits, as well as current beneficiaries, recipients, and annuitants under the programs covered by this Agreement.

Categories of Records: The maximum number of records involved in this matching activity is the number of records maintained in our SORs. Data elements disclosed in computer matching governed by this Agreement are Personally Identifiable Information from our specified SORs, including names, SSNs, addresses, amounts, and other information related to our benefits and earnings information. Specific listings of data elements are available at: http://www.ssa.gov/dataexchange/.

Systems of Records (SOR): Our SORs used for purposes of the subject data exchanges include:

• 60-0058—Master Files of SSN Holders and SSN Applications;

• 60-0059—Earnings Recording and Self-Employment Income System;

• 60-0090—Master Beneficiary Record;

• 60-0103—Supplemental Security Income Record (SSR) and Special Veterans Benefits (SVB);

• 60-0269—Prisoner Update Processing System (PUPS); and

• 60-0321—Medicare Part D and Part D Subsidy File.

States will ensure that the tax return data contained in SOR 60-0059 (Earnings Recording and Self-Employment Income System) will only be used in accordance with 26 U.S.C. 6103.

[FR Doc. 2017-10484 Filed 5-22-17; 8:45 am]

BILLING CODE 4191-02-P